DEPARTMENT OF THE INTERIOR

Fish and Wildlife Service

[FWS-HQ-R-2017-N118]; [FXGO1664091HCC0-FF09D00000-178]

Hunting and Shooting Sports Conservation Council Establishment; Request for Nominations

AGENCY: Fish and Wildlife Service, Interior.

ACTION: Notice.

SUMMARY: The U.S. Department of the Interior (DOI) is establishing and seeking nominations for the Hunting and Shooting Sports Conservation Council (Council). The Council will provide recommendations to the Federal Government, through the Secretary of the Interior (Secretary) and the Secretary of Agriculture, regarding the establishment and implementation of existing and proposed policies and authorities with regard to wildlife and habitat conservation endeavors that: Benefit wildlife resources; encourage partnership among the public, sporting conservation organizations, Federal, state, tribal, and territorial governments; and benefit recreational hunting and recreational shooting sports.

DATES: Comments regarding the establishment of this Council must be submitted no later than January 12, 2018. Nominations for the Council must be submitted by January 29, 2018.

ADDRESSES: You may submit comments and/or nominations by any of the following methods:

• Mail or hand-carry nominations to Joshua Winchell, U.S. Fish and Wildlife Service, National Wildlife Refuge System, 5275 Leesburg Pike, Falls Church, VA 22041-3803; or

• Email nominations to: joshua_winchell@fws.gov.

FOR FURTHER INFORMATION CONTACT: Joshua Winchell, Council Designated Federal Officer, by U.S. mail at the U.S. Fish and Wildlife Service, National Wildlife Refuge System, 5275 Leesburg Pike, Falls Church, VA 22041-3803; by telephone at (703) 358-2639; or by email at joshua_winchell@fws.gov.

SUPPLEMENTARY INFORMATION: The Council is established under the authority of the Secretary and regulated by the Federal Advisory Committee Act (FACA), as amended (5 U.S.C. Appendix 2). The Council's duties are strictly advisory and consist of, but are not limited to, providing recommendations for implementation of Executive Order 13443—Facilitation of Hunting Heritage and Wildlife Conservation; Secretary's Order 3347—Conservation Stewardship and Outdoor Recreation; and Secretary's Order 3356—Hunting, Fishing, Recreational Shooting, and Wildlife Conservation Opportunities and Coordination with States, Tribes, and Territories. Duties shall include, but are not be limited to: (a) Assessing and quantifying implementation of Executive Order 13443 and Secretary's Orders 3347 and 3356 across relevant departments, agencies, and offices; and making recommendations to enhance and expand their implementation as identified; (b) making recommendations regarding policies and programs that conserve and restore wetlands, agricultural lands, grasslands, forests, and rangeland habitats; promote opportunities and expand access to hunting and shooting sports on public and private lands; encourage hunting and shooting safety by developing ranges on public lands; recruit and retain new shooters and hunters; increase public awareness of the importance of wildlife conservation and the social and economic benefits of hunting and shooting; and encourage coordination among the public, hunting and shooting sports community; wildlife conservation groups; and Federal, state, tribal, and territorial governments.

The Council will meet approximately two times per year. The Secretaries of Interior and Agriculture (Secretaries) will appoint members and their alternates to the Council to serve up to a 3-year term. The Council will not exceed 18 discretionary members and 7 ex officio members. Ex officio members will include:

• Secretary of the Interior or designated DOI representatives;

• Secretary of Agriculture or designated Department of Agriculture representatives; and

• Executive Director, Association of Fish and Wildlife Agencies.

The Secretaries will select remaining members from among, but not limited to, the entities listed below. These members must be senior-level representatives of their organization and/or have the ability to represent their designated constituency.

• State fish and wildlife management agencies;

• Wildlife and habitat conservation/management organizations;

• Game bird hunting organizations;

• Waterfowl hunting organizations;

• Big game organizations (deer, elk, sheep, bear);

• U.S. hunters actively engaged in domestic and/or international hunting conservation;

• The firearms or ammunition manufacturing industry;

• Archery, hunting and/or shooting sports industry;

• Tourism, outfitter, and/or guide industries related to hunting and/or shooting sports;

• Tribal resource management organizations;

• The agriculture industry;

• The ranching industry; and

• Veterans service organizations.

Nominations should include a resume providing an adequate description of the nominee's qualifications, including information that would enable DOI to make an informed decision regarding meeting the membership requirements of the Council and to permit DOI to contact a potential member.

Members of the Council serve without compensation. However, while away from their homes or regular places of business, Council and subcommittee members engaged in Council or subcommittee business that the DFO approves may be allowed travel expenses, including per diem in lieu of subsistence, as authorized by 5 U.S.C. 5703, in the same manner as persons employed intermittently in Federal Government service.

Public Disclosure of Comments: Before including your address, phone number, email address, or other personal identifying information in your comment, you should be aware that your entire comment—including your personal identifying information—may be made publicly available at any time. While you can ask us in your comment to withhold your personal identifying information from public review, we cannot guarantee that we will be able to do so.

Certification Statement: I hereby certify that the Hunting and Shooting Sports Conservation Council is necessary, in the public interest, and is in connection with the performance of duties imposed on the Department of the Interior and the Department of Agriculture under 43 U.S.C. 1457 and provisions of the Fish and Wildlife Act of 1956 (16 U.S.C. 742a), the Federal Land Policy and Management Act of 1996 (43 U.S.C. 1701 et seq.), the National Forest Management Act of 1976 (16 U.S.C. 1600 et seq.), the National Wildlife Refuge System Improvement Act of 1997 (16 U.S.C. 668dd-668ee) and Executive Order 13443, Facilitation of Hunting Heritage and Wildlife Conservation.

Authority: 5 U.S.C. Appendix 2.

Ryan K. Zinke,
Secretary, Department of the Interior.

[FR Doc. 2017-28054 Filed 12-27-17; 8:45 am]

BILLING CODE 4333-15-P